DEPARTMENT OF STATE

[Public Notice 4196]

Shipping Coordinating Committee; Notice of Meeting

The Shipping Coordinating Committee (SHC) will conduct an open meeting at 9:30 a.m. on January 15, 2003, in Room 6319 of the United States Coast Guard Headquarters Building, 2100 Second Street, SW., Washington, DC 20593-0001. The primary purpose of the meeting is to prepare for the 34th session of the International Maritime Organization (IMO) Sub-Committee on Standards of Training and Watchkeeping (STW) to be held on February 24-28, 2003, at the IMO Headquarters in London, England.

The primary matters to be considered include:

1. Measures to enhance maritime security;

2. Unlawful practices associated with certificates of competency (i.e., forged certificates);

3. Large passenger safety;

4. Training of crew in launching and recovery operations of fast rescue boats and the means of rescue in adverse weather conditions;

5. Mandatory education and training requirements for fatigue prevention, mitigation, and management;

6. Preparation of procedures for regular updating of the so-called “white list” and consideration of the need for amending the STCW Convention and Code;

7. Consider the requirements and procedures related to the recognition of certificates under STCW regulation I/10; and

8. Consider the navigational requirements for Watchkeeping at anchor.

Members of the public may attend the meeting up to the seating capacity of the room. Interested persons may seek information by writing: LCDR Luke Harden, U.S. Coast Guard (G-MSO-1), Room 1210, 2100 Second Street, SW., Washington, DC 20593-0001 or by calling (202) 267-0229.

Dated: December 19, 2002.
Frederick J. Kenney,
Executive Secretary, Shipping Coordinating Committee, Department of State.

[FR Doc. 02-32597 Filed 12-24-02; 8:45 am]

BILLING CODE 4710-07-P